DEPARTMENT OF COMMERCE

National Oceanic and Atmospheric Administration

RIN 0648-XF711

Caribbean Fishery Management Council; Public Meetings; Cancellation

AGENCY: National Marine Fisheries Service (NMFS), National Oceanic and Atmospheric Administration (NOAA), Commerce.

ACTION: Notice of meeting cancellation.

SUMMARY: The Caribbean Fishery Management Council's Scientific and Statistical Committee is cancelling the 5-day meeting that was to be held from October 30, 2017 to November 3, 2017 due to the devastation of the island from the hurricanes.

FOR FURTHER INFORMATION CONTACT: Mr. Miguel A. Rolón, Caribbean Fishery Management Council, 270 Muñoz Rivera Avenue, Suite 401, San Juan, Puerto Rico 00918-1903, telephone: (787) 766-5926.

SUPPLEMENTARY INFORMATION: The meeting was published in the Federal Register on October 11, 2017 (82 FR 47190). The meeting will be rescheduled at a later date and announced in the Federal Register.

Dated: October 12, 2017.
Jeffrey N. Lonergan,
Acting Deputy Director, Office of Sustainable Fisheries, National Marine Fisheries Service.

[FR Doc. 2017-22467 Filed 10-17-17; 8:45 am]

BILLING CODE 3510-22-P